DEPARTMENT OF HEALTH AND HUMAN SERVICES

Centers for Disease Control and Prevention

Disease, Disability, and Injury Prevention and Control Special Emphasis Panel (SEP): Initial Review

Notice of Cancellation: A notice was published in the Federal Register on February 12, 2013, Volume 78, Number 29, page 9926-9927, announcing a teleconference of the Cost-Benefit of Incentive-based Smoking Cessation for Pregnant Women, Funding Opportunity Announcement DP 13-003, initial review, on April 2, 2013. This meeting is canceled.

Contact Person for More Information: M. Chris Langub, Ph.D., Scientific Review Officer, CDC, 4770 Buford Highway NE., Mailstop F-46, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Dana Redford,
Acting Director, Management Analysis and Services Office, Centers for Disease Control and Prevention.

[FR Doc. 2013-07439 Filed 3-29-13; 8:45 am]

BILLING CODE 4163-18-P